DEPARTMENT OF ENERGY

Federal Energy Regulatory Commission

Combined Notice of Filings #1

Take notice that the Commission received the following Complaints and Compliance filings in EL Dockets:

Docket Numbers: EL25-51-000.

Applicants: Honeysuckle Solar, LLC v. PJM Interconnection, L.L.C.

Description: Complaint of Honeysuckle Solar, LLC v. PJM Interconnection, L.L.C.

Filed Date: 1/24/25.

Accession Number: 20250124-5027.

Comment Date: 5 p.m. ET 2/7/25.

Take notice that the Commission received the following electric rate filings:

Docket Numbers: ER10-2374-016; ER10-2374-018; ER17-2059-011; EL24-133-000; EL24-134-000.

Applicants: Puget Sound Energy, Inc., Puget Sound Energy, Inc., Puget Sound Energy, Inc., Puget Sound Energy, Inc.

Description: Response to Orders to Show Cause of Puget Sound Energy, Inc.

Filed Date: 1/2/25.

Accession Number: 20250102-5299.

Comment Date: 5 p.m. ET 2/14/25.

Docket Numbers: ER24-1761-002.

Applicants: Harmony Florida Solar II, LLC.

Description: Compliance filing: Compliance Filing—Appendix A Amend. No. 1 (ER24-1761-) to be effective 8/15/2024.

Filed Date: 1/24/25.

Accession Number: 20250124-5094.

Comment Date: 5 p.m. ET 2/14/25.

Docket Numbers: ER24-1762-002.

Applicants: Storey Bend Solar, LLC.

Description: Compliance filing: Compliance Filing—Appendix A Amend. No. 1 (ER24-1762-) to be effective 8/15/2024.

Filed Date: 1/24/25.

Accession Number: 20250124-5097.

Comment Date: 5 p.m. ET 2/14/25.

Docket Numbers: ER24-3135-001.

Applicants: PJM Interconnection, L.L.C.

Description: Compliance filing: Compliance Filing to the Nov. 26, 2024 Order in ER24-3135 to be effective 12/31/9998.

Filed Date: 1/23/25.

Accession Number: 20250123-5133.

Comment Date: 5 p.m. ET 2/13/25.

Docket Numbers: ER25-710-001.

Applicants: Entergy Arkansas, LLC.

Description: Tariff Amendment: Quartz Solar, LLC LBA Agreement to be effective 1/1/2025.

Filed Date: 1/24/25.

Accession Number: 20250124-5086.

Comment Date: 5 p.m. ET 2/14/25.

Docket Numbers: ER25-1035-000.

Applicants: California Independent System Operator Corporation.

Description: § 205(d) Rate Filing: 2025-01-23 Amendment to Clarify After-Market Fuel Cost Recovery & Waiver Request to be effective 1/24/2025.

Filed Date: 1/23/25.

Accession Number: 20250123-5136.

Comment Date: 5 p.m. ET 2/13/25.

Docket Numbers: ER25-1036-000.

Applicants: Southwest Power Pool, Inc.

Description: § 205(d) Rate Filing: 1887R15 Evergy Kansas Central, Inc. (Elsmore) NITSA NOA to be effective 1/1/2025.

Filed Date: 1/24/25.

Accession Number: 20250124-5006.

Comment Date: 5 p.m. ET 2/14/25.

Docket Numbers: ER25-1037-000.

Applicants: Southwest Power Pool, Inc.

Description: § 205(d) Rate Filing: 1885R15 Evergy Kansas Central, Inc. NITSA NOA to be effective 1/1/2025.

Filed Date: 1/24/25.

Accession Number: 20250124-5015.

Comment Date: 5 p.m. ET 2/14/25.

Docket Numbers: ER25-1038-000.

Applicants: Southern California Edison Company.

Description: § 205(d) Rate Filing: Amended IFA, Mountain View III (WDT1019-SA 507) to be effective 1/25/2025.

Filed Date: 1/24/25.

Accession Number: 20250124-5048.

Comment Date: 5 p.m. ET 2/14/25.

Docket Numbers: ER25-1039-000.

Applicants: PJM Interconnection, L.L.C.

Description: Tariff Amendment: Notice of Cancellation of IISA, SA No. 6252; AF1-063/AF2-127 re: withdrawal to be effective 3/26/2025.

Filed Date: 1/24/25.

Accession Number: 20250124-5052.

Comment Date: 5 p.m. ET 2/14/25.

Docket Numbers: ER25-1040-000.

Applicants: Southwest Power Pool, Inc.

Description: § 205(d) Rate Filing: 2855R8 KMEA and Evergy Metro Meter Agent Agreement to be effective 1/1/2025.

Filed Date: 1/24/25.

Accession Number: 20250124-5057.

Comment Date: 5 p.m. ET 2/14/25.

Docket Numbers: ER25-1041-000.

Applicants: V3 Commodities Group, LLC.

Description: Tariff Amendment: Notice of Cancellation of MBR Tariff to be effective 1/25/2025.

Filed Date: 1/24/25.

Accession Number: 20250124-5058.

Comment Date: 5 p.m. ET 2/14/25.

Docket Numbers: ER25-1042-000.

Applicants: Duke Energy Indiana, LLC.

Description: Tariff Amendment: Cancellation of Duke Indiana Tariff Volume No. 10, Reactive Tariff to be effective 3/26/2025.

Filed Date: 1/24/25.

Accession Number: 20250124-5067.

Comment Date: 5 p.m. ET 2/14/25.

Docket Numbers: ER25-1043-000.

Applicants: Tri-State Generation and Transmission Association, Inc.

Description: § 205(d) Rate Filing: Initial Filing of Service Agreement No. 929 to be effective 1/16/2025.

Filed Date: 1/24/25.

Accession Number: 20250124-5073.

Comment Date: 5 p.m. ET 2/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 24, 2025.
Carlos D. Clay,
Deputy Secretary.

[FR Doc. 2025-01980 Filed 1-30-25; 8:45 am]

BILLING CODE 6717-01-P